DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 27, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on August 3, 2020.
Donald P. Burger,
Chief, General Approvals and Permits Branch.

Special Permits Data
Application No. | Applicant | Regulation(s) affected | Nature of the special permits thereof
10880-M | Austin Powder Company | 172.101(i), 173.35(b), 177.835(a), 177.848(g)(3) | To modify the special permit to authorize cargo vessel as an approved mode of transport. (modes 1, 3).
11110-M | United Parcel Service Co | 171.8, 175.75 | To modify the special permit to authorize additional airlines to use the permit. (mode 4).
11156-M | Orica USA Inc | 173.212(b), 173.62(c) | To modify the special permit to authorize an alternative bag closure (glued seam). (modes 1, 3).
13220-M | Entegris, Inc | 173.302, 173.302c | To modify the special permit to harmonize internal pressure limits and test pressures with UN Model Regulations, (modes 1, 2, 3).
15483-M | National Aeronautics And Space Administration | 173.302a | To modify the special permit to authorize a different 2.2 gas to be incorporated into the permit. (modes 1, 2, 3, 4, 5).
16274-M | Matheson Tri-gas, Inc | 173.13(c)(2)(i), 173.13(c)(2)(ii), 173.13(c)(2)(iii) | To modify the special permit to authorize an additional Division 4.3 material. (modes 1, 4).
16318-M | Technical Chemical Company | 173.304(d), 173.167(a) | To modify the special permit to authorize an additional 2.1 hazmat. (modes 1, 2, 3, 4, 5).
20588-M | Nantong Tank Container Co., Ltd | 178.274(b)(1), 178.276(a)(2), 178.276(b)(1) | To modify the special permit to authorize a reduction in minimum design pressure and to increase the maximum water capacity. (modes 1, 2, 3).

[FR Doc. 2020-17600 Filed 8-11-20; 8:45 am]

BILLING CODE 4909-60-P